DEPARTMENT OF COMMERCE

Bureau of Industry and Security

Mahan Airways, Et al.; Order Renewing Order Temporarily Denying Export Privileges and Also Making that Temporary Denial of Export Privileges Applicable co Additional Related Persons

Mahan Airways, Mahan Tower, No. 21, Azadegan St., M.A. Jenah Exp. Way, Tehran, Iran;

Zarand Aviation, a/k/a GIE Zarand Aviation, 42 Avenue Montaigne, 75008 Paris, France; and 112 Avenue Kleber, 75116 Paris, France;

Gatewick LLC, a/k/a Gatewick Freight & Cargo Services, a/k/a Gatewick Aviation Services, G#22 Dubai Airport Free Zone, P.O. Box 393754, Dubai, United Arab Emirates; and P.O. Box 52404, Dubai, United Arab Emirates; and

Mohamed Abdulla Alqaz Building, Al Maktoum Street, Al Rigga, Dubai, United Arab Emirates;

Pejman Mahmood Kosarayanifard, a/k/a Kosarian Fard, P.O. Box 52404, Dubai, United Arab Emirates;

Mahmoud Amini, G#22 Dubai Airport Free Zone, P.O. Box 393754, Dubai, United Arab Emirates; and P.O. Box 52404, Dubai, United Arab Emirates; and

Mohamed Abdulla Alqaz Building, Al Maktoum Street, Al Rigga, Dubai, United Arab Emirates;

Kerman Aviation, a/k/a GIE Kerman Aviation, 42 Avenue Montaigne 75008, Paris, France;

Sirjanco Trading, P.O. Box 8709, Dubai, United Arab Emirates;

Ali Eslamian, 4th Floor, 33 Cavendish Square, London, W1G0PW, United Kingdom; and 2 Bentinck Close, Prince Albert Road St. Johns Wood, London NW87RY, United Kingdom.

Pursuant to Section 766.24 of the Export Administration Regulations, 15 CFR parts 730-774 (2011) (“EAR” or the “Regulations”), I hereby grant the request of the Office of Export Enforcement (“OEE”) to renew the February 25, 2011 Order Temporarily Denying the Export Privileges of Mahan Airways, Zarand Aviation, Gatewick LLC, Pejman Mahmood Kosarayanifard, and Mahmoud Amini, as I find that renewal of the Temporary Denial Order (“TDO”) is necessary in the public interest to prevent an imminent violation of the EAR.¹ Additionally, pursuant to Section 766.23 of the Regulations, including the provision of notice and an opportunity to respond, I find it necessary to add the following persons as related persons in order to prevent evasion of the TDO:

¹ The February 25, 2011 Order was published in the Federal Register on March 7, 2011. See 76 FR 112318.

Kerman Aviation, a/k/a GIE Kerman Aviation, 42 Avenue Montaigne 75008, Paris, France;

Sirjanco Trading LLC, P.O. Box 8709, Dubai, United Arab Emirates; and

Ali Eslamian, 4th Floor, 33 Cavendish Square, London, W1G0PW, United Kingdom; and

2 Bentinck Close, Prince Albert Road St. Johns Wood, London NW87RY, United Kingdom.

I. Procedural History

On March 17, 2008, Darryl W. Jackson, the then-Assistant Secretary of Commerce for Export Enforcement (“Assistant Secretary”), signed a TDO denying Mahan Airways' export privileges for a period of 180 days on the grounds that its issuance was necessary in the public interest to prevent an imminent violation of the Regulations. The TDO also named as denied persons Blue Airways, of Yerevan, Armenia (“Blue Airways of Armenia”), as well as the “Balli Group Respondents,” namely, Balli Group PLC, Balli Aviation, Balli Holdings, Vahid Alaghband, Hassan Alaghband, Blue Sky One Ltd., Blue Sky Two Ltd., Blue Sky Three Ltd., Blue Sky Four Ltd., Blue Sky Five Ltd., and Blue Sky Six Ltd., all of the United Kingdom. The TDO was issued ex parte pursuant to Section 766.24(a), and went into effect on March 21, 2008, the date it was published in the Federal Register.² The TDO was most recently renewed on February 25, 2011, while also adding Pejman Mahmood Kosarayanifard a/k/a Kosarian Fard and Mahmoud Amini to the TDO as related persons. Additionally, on July 1, 2011, the TDO was modified by adding Zarand Aviation as a respondent in order to prevent an imminent violation. Specifically, Zarand Aviation owned an aircraft subject to the Regulations being operated for the benefit of Mahan Airways in violation of both the TDO and the Regulations.

² The TDO was subsequently renewed in accordance with Section 766.24(d) of the Regulations on September 17, 2008, March 16, 2009, September 11, 2009, March 9, 2010, September 3, 2010, and most recently on February 24, 2011. Prior to each renewal, each Respondent was given the opportunity to oppose renewal in accordance with Section 766.24(d)(3) of the Regulations. Each renewal or modification order was published in the Federal Register. As of March 9, 2010, the Balli Group Respondents and Blue Airways were no longer subject to the TDO.

On August 3, 2011, BIS, through its Office of Export Enforcement (“OEE”), filed a written request for renewal of the TDO. The current TDO dated February 25, 2011, as modified on July 1, 2011, will expire, unless renewed, on August 24, 2011. Notice of the renewal request was provided to Mahan Airways and Zarand Aviation by delivery of a copy of the request in accordance with Sections 766.5 and 766.24(d) of the Regulations. No opposition to any aspect of renewal of the TDO has been received from either Mahan Airways or Zarand Aviation, while neither Gatewick, nor Kosarian Fard nor Mahmoud Amini has at any time appealed the related person determinations I made as part of the September 3, 2010 and February 25, 2011 Renewal Orders.³

³ A party named or added as a related person may not oppose the issuance or renewal of the underlying temporary denial order, but may file an appeal of the related person determination in accordance with Section 766.23(c).

Additionally, OEE has requested the addition of Kerman Aviation, Sirjanco Trading LLC, and Ali Eslamian as related persons in accordance with Section 766.23. Each proposed related person was provided written notice of BIS's intent to add them to the TDO pursuant to Section 766.23(b) of the Regulations along with an opportunity to respond. No opposition was received from either Sirjanco Trading LLC or Kerman Aviation, while Ali Eslamian, via counsel, made two written submissions dated April 19, 2011 and August 19, 2011, respectively, opposing his addition to the TDO. In addition, after making his initial written submission, Ali Eslamian offered, via counsel, to meet with OEE/BIS, and he and his counsel subsequently met with BIS Special Agents on June 23, 2011.

II. Renewal of the TDO

A. Legal Standard

Pursuant to Section 766.24(b) of the Regulations, BIS may issue an order temporarily denying a Respondent's export privileges upon a showing that the order is necessary in the public interest to prevent an “imminent violation” of the Regulations. 15 CFR 766.24(b)(1). “A violation may be `imminent' either in time or degree of likelihood.” 15 CFR 766.24(b)(3). BIS may show “either that a violation is about to occur, or that the general circumstances of the matter under investigation or case under criminal or administrative charges demonstrate a likelihood of future violations.” Id. As to the likelihood of future violations, BIS may show that “the violation under investigation or charges is significant, deliberate, covert and/or likely to occur again, rather than technical or negligent [.]” Id. A “lack of information establishing the precise time a violation may occur does not preclude a finding that a violation is imminent, so long as there is sufficient reason to believe the likelihood of a violation.” Id.

B. The TDO and BIS's Request for Renewal

OEE's request for renewal is based upon the facts underlying the issuance of the initial TDO and the TDO renewals in this matter and the evidence developed over the course of this investigation indicating Mahan Airways' blatant disregard of U.S. export controls and the TDO. The initial TDO was issued as a result of evidence that showed that Mahan Airways and other parties engaged in conduct prohibited by the EAR by knowingly re-exporting to Iran three U.S.-origin aircraft, specifically Boeing 747s (“Aircraft 1-3”), items subject to the EAR and classified under Export Control Classification Number (“ECCN”) 9A991.b, without the required U.S. Government authorization. Further evidence submitted by BIS indicated that Mahan Airways was involved in the attempted re-export of three additional U.S.-origin Boeing 747s (“Aircraft 4-6”) to Iran.

As discussed in the September 17, 2008 TDO Renewal Order, evidence presented by BIS indicated that Aircraft 1-3 continued to be flown on Mahan Airways' routes after issuance of the TDO, in violation of the Regulations and the TDO itself.⁴ It also showed that Aircraft 1-3 had been flown in further violation of the Regulations and the TDO on the routes of Iran Air, an Iranian Government airline. Moreover, as discussed in the March 16, 2009, September 11, 2009 and March 9, 2010 Renewal Orders, Mahan Airways registered Aircraft 1-3 in Iran and were issued Iranian tail numbers, including EP-MNA and EP-MNB, and continued to operate at least two of Aircraft 1-3 in violation of the Regulations and the TDO,⁵ while also committing an additional knowing and willful violation of the Regulations and the TDO when it negotiated for and acquired an additional U.S.-origin aircraft. The additional aircraft was an MD-82 aircraft, which was subsequently painted in Mahan Airways livery and flown on multiple Mahan Airways' routes under tail number TC-TUA.

⁴ Engaging in conduct prohibited by a denial order violates the Regulations. 15 CFR 764.2(a) and (k).

⁵ The third Boeing 747 appeared to have undergone significant service maintenance and may not have been operational at the time of the March 9, 2010 Renewal Order.

The March 9, 2010 Renewal Order also noted that a court in the United Kingdom (“U.K.”) had found Mahan Airways in contempt of court on February 1, 2010, for failing to comply with that court's December 21, 2009 and January 12, 2010 orders compelling Mahan Airways to remove the Boeing 747s from Iran and ground them in the Netherlands. Mahan Airways and the Balli Group Respondents have been litigating before the U.K. court concerning ownership and control of Aircraft 1-3. In a letter to the U.K. court dated January 12, 2010, Mahan Airways' Chairman indicated, inter alia, that Mahan Airways opposes U.S. Government actions against Iran, that it continued to operate the aircraft on its routes in and out of Tehran (and had 158,000 “forward bookings” for these aircraft), and that it wished to continue to do so and would pay damages if required by that court, rather than ground the aircraft. The September 3, 2010 Renewal Order pointed out that Mahan Airways' violations of the TDO extended beyond operating U.S.-origin aircraft in violation of the TDO and attempting to acquire additional U.S.-origin aircraft. In February 2009, while subject to the TDO, Mahan Airways participated in the export of computer motherboards, items subject to the Regulations and designated as EAR99, from the United States to Iran, via the UAE, in violation of both the TDO and the Regulations, by transporting and/or forwarding the computer motherboards from the UAE to Iran. Mahan Airways' violations were facilitated by Gatewick, which not only participated in the transaction, but also has stated to BIS that it is Mahan Airways' sole booking agent for cargo and freight forwarding services in the UAE.

Moreover, in a January 24, 2011 filing in the U.K. Court, Mahan Airways asserted that Aircraft 1-3 are not being used, but stated in pertinent part that the aircraft are being maintained in Iran especially “in an airworthy condition” and that, depending on the outcome of its U.K. Court appeal, the aircraft “could immediately go back into service * * * on international routes into and out of Iran.” Mahan Airways' January 24, 2011 submission to U.K. Court of Appeal, at p. 25, paragraphs 108,110. This clearly stated intent, both on its own and in conjunction with Mahan Airways' prior misconduct and statements, demonstrates the need to renew the TDO in order to prevent imminent future violations.

Most recently, OEE has presented evidence that Mahan Airways continues to evade U.S. export control laws by operating a French registered Airbus A310 aircraft (tail number F-OJHH), an aircraft subject to the Regulations,⁶ which bears Mahan Airways livery, colors and logo on flights into and out of Iran. The aircraft is owned by Zarand Aviation, an entity whose corporate registration lists Mahan Air General Trading as a member of the Groupement D'interet Economique (“Economic Interest Group”). This aircraft has been temporarily grounded at Birmingham airport in the United Kingdom (“U.K”). Prior to its grounding by U.K. officials, this aircraft was scheduled to depart from the U.K. to Tehran, Iran. Publically available evidence submitted by OEE showed the aircraft bearing the livery, colors and logo of Mahan Airways. Moreover, French Civil Aviation records showed the aircraft is being leased to Mahan Airways.

⁶ The aircraft is powered with U.S.-origin engines, items subject to the EAR and classified as Export Control Classification (“ECCN”) 9A991.d. Because the aircraft contains U.S.-origin items valued at more than 10 percent of the total value of the aircraft, it is also subject to the EAR if re-exported to Iran and classified as ECCN 9A991.b.

C. Findings

Under the applicable standard set forth in Section 766.24 of the Regulations and my review of the record here, I find that the evidence presented by BIS convincingly demonstrates that Mahan Airways has continually violated the EAR and the TDO, that such knowing violations have been significant, deliberate and covert, and that there is a likelihood of future violations. Additionally, should the U.K. grounding order be lifted there is a significant risk that the Zarand Aviation aircraft will be re-exported to Iran for the use or benefit of Mahan Airways in violation of the TDO. Therefore, renewal of the TDO is necessary to prevent further violations and will give notice to persons and companies in the United States and abroad that they should continue to cease dealing with Mahan Airways and Zarand Aviation in export transactions involving items subject to the EAR and is consistent with the public interest to prevent imminent violation of the EAR.

III. Addition of Related Persons

A. Legal Standard

Section 766.23 of the Regulations provides that “[i]n order to prevent evasion, certain types of orders under this part may be made applicable not only to the respondent, but also to other persons then or thereafter related to the respondent by ownership, control, position of responsibility, affiliation, or other connection in the conduct of trade or business. Orders that may be made applicable to related persons include those that deny or affect export privileges, including temporary denial orders * * *.” 15 CFR 766.23(a).

B. Analysis and Findings

OEE has requested that Kerman Aviation, Sirjanco Trading LLC, and Ali Eslamian be added as related persons in order to prevent evasion of the TDO. As noted above, each entity was provided written notice of OEE's intent to add them as a related person to the TDO. No response was received from either Kerman Aviation or Sirjanco Trading LLC. Mr. Eslamian, as discussed in further detail below, submitted two written responses opposing his addition to the TDO.

Kerman Aviation

In accordance with Section 766.23 of the Regulations, OEE provided Kerman Aviation with notice of its intent to seek an order adding Kerman to the TDO as a related person to Mahan Airways in order to prevent evasion of the TDO, via a notice letter sent on July 5, 2011. No response has been received from Kerman Aviation.

Kerman Aviation's corporate registration and civil aviation documents show a significant corporate relationship with and/or business connection to Mahan Airways. French Civil Aviation registration records show that Kerman Aviation's fleet consists entirely of one active and airworthy Airbus A310 (tail number F-OJHI), an item subject to the Regulations based on its U.S.-origin engines, which bears the livery, logo and colors of Mahan Airways and is listed as being leased to Mahan. Moreover, according to Kerman Aviation's French corporate registration documents, both Mahan Aviation Services Company and Mahan Air General Trading are listed as Economic Interest Group members. I would note that Mahan Air General Trading is also listed as an Economic Interest Group member for Zarand Aviation, an entity which, as discussed supra, owns one Airbus A310 aircraft being operated by and for the benefit of Mahan Airways. In addition, Kerman Aviation shares the same address with Zarand Aviation.

I find pursuant to Section 766.23 that Kerman Aviation is a related person to Mahan Airways, and that adding Kerman Aviation to the TDO is necessary to prevent evasion of the TDO.

Sirjanco Trading LLC

In accordance with Section 766.23 of the Regulations, OEE provided Sirjanco Trading LLC with notice of its intent to seek an order adding Sirjanco Trading LLC to the TDO as a related person to Mahan Airways in order to prevent evasion of the TDO, via a notice letter sent on April 7, 2011. No response has been received from Sirjanco Trading LLC.

OEE has presented evidence that Sirjanco Trading LLC, a company which acquires and resells aircraft parts and components, is a related person to Mahan Airways. Sirjanco Trading LLC's primary owner is Ghulam Redha Khodrat Mahmoudi (a/k/a Gholamreza Mahmoudi), who signed a written witness statement dated May 31, 2009, as part of the U.K. litigation between Mahan Airways and the Balli Group, admitting to being both a Mahan Airways' shareholder and its vice president for business development. Moreover, Sirjanco shares the same Dubai mailing address and telephone number with another Mahan Airways affiliate, Mahan Air General Trading. Lastly, Ali Eslamain, as discussed in more detail below, informed OEE on June 23, 2011, that Sirjanco is currently managed by Hamid Reza Malakotipour, who is also the Managing Director of Mahan Air General Trading.⁷

⁷ I note that Mahan Air General Trading is also listed as an Economic Interest Group member of both Zarand Aviation and Kerman Aviation.

I find pursuant to Section 766.23 that Sirjanco Trading LLC is a related person to Mahan Airways, and that adding Sirjanco Trading LLC to the TDO is necessary to prevent evasion of the TDO.

Ali Eslamian

OEE notified Mr. Eslamian of its intent to add him to the TDO as a person related to Mahan Airways, via a written notice letter dated and sent on April 7, 2011. That letter apprised Mr. Eslamian of his opportunity to make a submission opposing his addition.

OEE has produced evidence, including, but not limited to, a February 6, 2009 signed witness statement by Mr. Eslamian submitted during the Mahan Airways-Balli Group U.K. litigation described above. Eslamian's written testimony details his longstanding business relationship with Mahan Airways' senior officers and his specific involvement in Mahan Airways' original conspiracy to acquire U.S.-origin 747s. Eslamian admits he was originally approached by Mahan Airways' Managing Director Hamid Arabnejad and Vice President for Business Development Gholamreza Mahmoudi, who were seeking to establish a company in the United Kingdom for the purpose of “making arrangements for them which Mahan Air was unable to do directly.” Eslamian, along with Arabnejad and Mahmoudi, subsequently formed Skyco (U.K.) Ltd. (“Skyco)”, which Mr. Eslamian admits buys and sells aircraft, aircraft engines and other aviation related services, and where he remains a shareholder and managing director. Additionally, Eslamian, along with Mahan Airways technicians, inspected Balli Aircraft 4-6 that Mahan was seeking to acquire illegally. At the request of Mahan Airways, he also attended the initial meetings between Mahan Airways and the Balli Group principals during which it was proposed that the Balli Group or Balli entities would act as a front for Mahan Airways in Mahan's scheme to acquire U.S.-origin aircraft.

In response to the April 7, 2011 notice letter, Eslamian submitted a written response dated April 19, 2011, via his U.S.-based counsel, in which he stated that he sold his interest in Sirjanco Trading LLC by agreement dated June 3, 2003. Eslamian's written submission failed to address in any manner the subject of the April 7, 2011 notice letter, specifically his business relationship or connection to Mahan Airways. Instead, it attached a document that appears to be an agreement providing for the sale of Eslamian's shares in Sirjanco Trading LLC to Gholamreza Mahmoudi, the Mahan officer who, as discussed above, co-founded Skyco (U.K.) Ltd. with Eslamian and a Mahan managing director.

Having failed to contest that he had a relationship with Mahan Airways, Eslamian, again via counsel, offered to meet with BIS. Eslamian and his counsel thereafter met with BIS Special Agents at length on June 23, 2011. During that meeting, Eslamian provided information admitting his longstanding business relationship and connections to senior Mahan Airways officers and/or directions, including Hamid Arabnejad and Gholamreza Mahmoudi. Mr. Eslamian also informed OEE that Sirjanco Trading LLC is a significant customer of Skyco, where Eslamian remains a managing director and owner, thereby undermining his efforts via his April 19, 2011 response to deny any continuing connection to Sirjanco Trading. Mr. Eslamian was able to provide detailed insight into how Mahan Airways maintains and repairs its aircraft through the use of facilities in third countries.

While not required by the Regulations, OEE provided Mr. Eslamian with yet a further opportunity to respond regarding his relationship with Mahan Airways and to oppose his addition to the TDO as a related person. Via email correspondence between counsel for BIS and Eslamian's U.S.-based counsel, BIS provided Eslamian notice on August 5, 2011, that BIS would provide an additional 14 days, that is, until August 19, 2011, for a further response to the April 7, 2011 notice letter regarding his relationship with Mahan Airways. In follow-up correspondence between counsel, Eslamian indicated on August 8, 2011, that he would file a response by August 19, 2011, and when he asked for further particulars, BIS referenced Eslamian's role in the Mahan Airways-Balli Group transactions, and his related roles at Skyco and Sirjanco, all matters included in Eslamian's U.K. testimony on behalf of Mahan Airways and/or in the June 23, 2011 meeting.

Eslamian made a second written submission on August 19, 2011, via counsel. This submission reiterated the assertions he made on April 19, 2011, while also raising a second line of argument that he was not given proper notice or opportunity to respond to OEE's assertion that he is a related person to Mahan Airways.

Eslamian's understanding of the Regulations as it relates to related persons is misplaced at best. OEE properly provided Mr. Eslamian written notice of its intent to add him as a related person to the TDO in accordance with Section 766.23(b) of the Regulations, via its notice letter dated April 7, 2011. Having already satisfied the Regulation's notice requirements for related persons, OEE went above what was required and offered Eslamian additional opportunities to respond, including the opportunity for a second written response.

Similarly unsupported is Eslamian's argument that the related person notice was defective on the asserted ground that as a potential related person he was entitled to service of a copy of OEE's renewal request concerning the existing TDO. Eslamian was not a party to the existing TDO in any capacity and his August 19, 2011 submission fails to cite a provision of Part 766 of the Regulations supporting his argument. See also Section 766.24(d)(3)(ii) of the Regulations (a person “designated as a related person may not oppose issuance or renewal of the temporary denial order, but may file an appeal [regarding his related person status] in accordance with § 766.23(c) of this part”)(emphasis added).

Eslamian has acknowledged, furthermore, that he did receive a copy of the TDO renewal request, apparently from Mahan Airways and/or Zarand Aviation. His counsel informed BIS counsel on August 18, 2011, that a copy had been obtained that day or the day before. The discussion contained in the renewal request is consistent with the April 7, 2011 notice letter, the June 23, 2011 meeting, and the email correspondence, via counsel, beginning on August 5, 2011.

I find without merit Mr. Eslamian's argument that he did not receive adequate notice or opportunity to contest his addition as a related person pursuant to Section 766.23 of the Regulations, of which he first received notice more than four months ago. In addition to the ample time and multiple opportunities Eslamian had to and did make responses, both in writing and orally, I note that the evidence concerning his relationship with and connection to Mahan Airways is drawn from testimony and statements provided by Eslamian himself.

I further find in accordance with Section 766.23 of the Regulations that Eslamian is a related person to Mahan Airways and that it is necessary to add him to the TDO in order to prevent its evasion. The record amply demonstrates his long-running, varied and ongoing connections to Mahan Airways, based on evidence submitted by BIS and summarized above, including, but not limited to, Eslamian's U.K. testimony and statements and admissions he made during the June 23, 2011 meeting. Moreover, he is positioned, as he has done previously, to participate in or facilitate unlawful conduct by Mahan Airways, as it seeks to obtain or use aircraft, aircraft engines or other parts, and aircraft services, to further its activities in violation of the Regulations and the TDO.

IV. Order

It Is Therefore Ordered:

First, that Mahan Airways, Mahan Tower, No. 21, Azadegan St., M.A. Jenah Exp. Way, Tehran, Iran; Zarand Aviation A/K/A GIE Zarand Aviation, 42 Avenue Montaigne, 75008 Paris, France, and 112 Avenue Kleber, 75116 Paris, France; Gatewick LLC, A/K/A Gatewick Freight & Cargo Services, A/K/A Gatewick Aviation Service, G#22 Dubai Airport Free Zone, P.O. Box 393754, Dubai, United Arab Emirates, and P.O. Box 52404, Dubai, United Arab Emirates, and Mohamed Abdulla Alqaz Building, Al Maktoum Street, Al Rigga, Dubai, United Arab Emirates; Pejman Mahmood Kosarayanifard A/K/A Kosarian Fard, P.O. Box 52404, Dubai, United Arab Emirates; Mahmoud Amini, G#22 Dubai Airport Free Zone, P.O. Box 393754, Dubai, United Arab Emirates, and P.O. Box 52404, Dubai, United Arab Emirates, and Mohamed Abdulla Alqaz Building, Al Maktoum Street, Al Rigga, Dubai, United Arab Emirates; Kerman Aviation A/K/A GIE Kerman Aviation, 42 Avenue Montaigne 75008, Paris, France; Sirjanco Trading LLC, P.O. Box 8709, Dubai, United Arab Emirates; and Ali Eslamian, 4th Floor, 33 Cavendish Square, London W1G0PW, United Kingdom, and 2 Bentinck Close, Prince Albert Road St. Johns Wood, London NW87RY, United Kingdom and when acting for or on their behalf, any successors or assigns, agents, or employees (each a “Denied Person” and collectively the “Denied Persons”) may not, directly or indirectly, participate in any way in any transaction involving any commodity, software or technology (hereinafter collectively referred to as “item”) exported or to be exported from the United States that is subject to the Export Administration Regulations (“EAR”), or in any other activity subject to the EAR including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefiting in any way from any transaction involving any item exported or to be exported from the United States that is subject to the EAR, or in any other activity subject to the EAR.

Second, that no person may, directly or indirectly, do any of the following:

A. Export or reexport to or on behalf of a Denied Person any item subject to the EAR;

B. Take any action that facilitates the acquisition or attempted acquisition by a Denied Person of the ownership, possession, or control of any item subject to the EAR that has been or will be exported from the United States, including financing or other support activities related to a transaction whereby a Denied Person acquires or attempts to acquire such ownership, possession or control;

C. Take any action to acquire from or to facilitate the acquisition or attempted acquisition from a Denied Person of any item subject to the EAR that has been exported from the United States;

D. Obtain from a Denied Person in the United States any item subject to the EAR with knowledge or reason to know that the item will be, or is intended to be, exported from the United States; or

E. Engage in any transaction to service any item subject to the EAR that has been or will be exported from the United States and which is owned, possessed or controlled by a Denied Person, or service any item, of whatever origin, that is owned, possessed or controlled by a Denied Person if such service involves the use of any item subject to the EAR that has been or will be exported from the United States. For purposes of this paragraph, servicing means installation, maintenance, repair, modification or testing.

Third, that, after notice and opportunity for comment as provided in section 766.23 of the EAR, any other person, firm, corporation, or business organization related to a Denied Person by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Sections 766.24(e) and 766.23(c)(2) of the EAR, Mahan Airways, Zarand Aviation, Gatewick LLC, Mahmoud Amini, Kosarian Fard, Kerman Aviation, Sirjanco Trading LLC and/or Ali Eslamian may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. A renewal request may be opposed by Mahan Airways and/or Zarand Aviation as provided in Section 766.24(d), by filing a written submission with the Assistant Secretary of Commerce for Export Enforcement, which must be received not later than seven days before the expiration date of the Order.

A copy of this Order shall be provided to Mahan Airways, Zarand Aviation and each related person and shall be published in the Federal Register. This Order is effective immediately and shall remain in effect for 180 days.

Dated: August 24, 2011.
Donald G. Salo, Jr.,
Deputy Assistant Secretary of Commerce for Export Enforcement.

[FR Doc. 2011-22284 Filed 8-30-11; 8:45 am]

BILLING CODE P